DEPARTMENT OF ENERGY

Federal Energy Regulatory Commission

Combined Notice of Filings #2

Take notice that the Commission received the following electric rate filings:

Docket Numbers: ER15-2078-001.

Applicants: Talen Energy Marketing, LLC.

Description: Tariff Amendment: Amendment to Notice of Succession to Reactive Tariff to be effective 6/30/2015.

Filed Date: 8/26/15.

Accession Number: 20150826-5179.

Comments Due: 5 p.m. ET 9/16/15.

Docket Numbers: ER15-2531-000.

Applicants: Southwest Power Pool, Inc.

Description: Section 205(d) Rate Filing: 2179 Sunflower to ITC Great Plains Novation Cancellation to be effective 8/10/2015.

Filed Date: 8/26/15.

Accession Number: 20150826-5135.

Comments Due: 5 p.m. ET 9/16/15.

Docket Numbers: ER15-2532-000.

Applicants: Southwest Power Pool, Inc.

Description: Section 205(d) Rate Filing: 2180 Mid-Kansas to ITC Great Plains Novation Cancellation to be effective 8/10/2015.

Filed Date: 8/26/15.

Accession Number: 20150826-5136.

Comments Due: 5 p.m. ET 9/16/15.

Docket Numbers: ER15-2533-000.

Applicants: Midcontinent Independent System Operator, Inc.

Description: Section 205(d) Rate Filing: 2015-08-26_SA 2831 ITCTransmission-Geronimo Huron Wind GIA (J340) to be effective 10/25/2015.

Filed Date: 8/26/15.

Accession Number: 20150826-5190.

Comments Due: 5 p.m. ET 9/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2015.
Nathaniel J. Davis, Sr.,
Deputy Secretary.

[FR Doc. 2015-21750 Filed 9-1-15; 8:45 am]

BILLING CODE 6717-01-P